FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel Operating Common Carrier Ocean Transportation Intermediary Applicants

Apex Maritime Co., (NY) Inc., 71 South Central Avenue, Suite 307, Valley Stream, NY 11580, Officer: Vicky Cheung, President (Qualifying Individual).

Express USA Inc., 4007 Sapphire Lane, Bethlehem, PA 18020, Officers: Giuseppe Fenu, Vice President, (Qualifying Individual), Claudio Priotto, President.

R & S Trading, Lerida 310, Urb, Valencia, Rio Piedras, PR 00924, Carlos B. Sanchez, Sole Proprietor.

Fleet Global Logistics (9U.S.A.), Inc., 4144 East Wood Harbor Ct., Suite 1, Richmond, VA 23231, Officers: Paul Wiegers, Vice CEO, (Qualifying Individual), Julia Murphy, CEO.

Non-Vessel Operating Common Carrier and Ocean Freight Forwarder Transportation Intermediary Applicants

Tisco Logistics Inc., 347 South Stimson Avenue, City of Industry, CA 91744, Officers: Pei-Lin Eto, Operation Manager (Qualifying Individual), Jimmy C.M. Hsu, CEO.

Grace Computer Distributors dba Grace Cargo, 8434 NW 66th Street, Miami, FL 33166, Officers: Samir Gebran, President (Qualifying Individual), Maria Garcia Bianchini, Vice President.

Grupo Delpa Corp., 7225 NW 25th Street, Suite #311, Miami, FL 33122, Officers: Lucila Rosario, Treasurer (Qualifying Individual), Cecilia M. Lima, President.

Ocean Freight Forwarder—Ocean Transportation Intermediary Applicants

NMT International Shipping (Americas) Inc., 12600 Northborough, Suite 170, Houston, TX 77067, Officers: Olga Lidia Baez, Vice President (Qualifying Individual), Peter Kermis, President.

R.G. Associates, Inc. dba Interfreight SE., 200 Dividend Drive, Suite 105, Peachtree City, GA 30269, Officers: Reinhard H. Grabowsky, President (Qualifying Individual).

Dublin Worldwide Moving & Storage, 2060 Marina Blvd., San Leandro, CA 94577, Officers: Donna Marshall, Secretary (Qualifying Individual), Michael S. Tullock, President.

Dated: June 4, 2004.
Bryant L. VanBrakle,
Secretary.

[FR Doc. 04-13062 Filed 6-8-04; 8:45 am]

BILLING CODE 6730-01-P